DEPARTMENT OF ENERGY

Federal Energy Regulatory Commission

Combined Notice of Filings #1

October 1, 2009.

Take notice that the Commission received the following electric corporate filings:

Docket Numbers: EC09-105-000.

Applicants: MxEnergy Electric Inc.

Description: Notice of MxEnergy Electric Inc.

Filed Date: 09/30/2009.

Accression Number: 20090930-5123.

Comment Date: 5 p.m. Eastern Time on Wednesday, October 21, 2009.

Take notice that the Commission received the following electric rate filings:

Docket Numbers: ER96-719-026; ER97-2801-027; ER99-2156-019.

Applicants: MidAmerican Energy Company; PacifiCorp; Cordova Energy Company LLC.

Description: MidAmerican Energy Co and Cordova Energy Co, LLC et al. submit Notice of Change in Status re certain jurisdictional transmission facilities.

Filed Date: 09/30/2009.

Accression Number: 20090930-0097.

Comment Date: 5 p.m. Eastern Time on Wednesday, October 21, 2009.

Docket Numbers: ER99-1522-005; ER07-557-002; ER07-556-002; ER07-555-002; ER07-554-002; ER07-553-002; ER06-796-003; ER04-359-003; ER02-723-004.

Applicants: Bangor Hydro-Electric Company, Emera Energy Services Subsidiary No. 1 L, Emera Energy Services Subsidiary No. 2 L, Emera Energy Services Subsidiary No. 3 L, Emera Energy Services Subsidiary No. 4 L, Emera Energy Services Subsidiary No. 5 L, Emera Energy U.S. Subsidiary No. 1, Inc, Emera Energy U.S. Subsidiary No. 2, Inc., Emera Energy Services, Inc.

Description: Change in Status Filing of Bangor Hydro-Electric Company, et al.

Filed Date: 09/29/2009.

Accression Number: 20090929-5094.

Comment Date: 5 p.m. Eastern Time on Tuesday, October 20, 2009.

Docket Numbers: ER08-100-010; ER07-1215-009; ER07-265-011;

Applicants: Sempra Energy Solutions LLC, Sempra Energy Trading LLC, The Royal Bank of Scotland plc.

Description: Notice of Non-Material Change in Status of Sempra Energy Trading LLC, et al.

Filed Date: 09/30/2009.

Accression Number: 20090930-5095.

Comment Date: 5 p.m. Eastern Time on Wednesday, October 21, 2009.

Docket Numbers: ER08-1227-000.

Applicants: Rail Splitter Wind Farm, LLC.

Description: Notice of Non-Material Change in Status of Rail Splitter Wind Farm, LLC.

Filed Date: 09/30/2009.

Accression Number: 20090930-5041.

Comment Date: 5 p.m. Eastern Time on Wednesday, October 21, 2009.

Docket Numbers: ER09-1503-001.

Applicants: Niagara Mohawk Power Corporation.

Description: Refund Report of Niagara Mohawk Power Corporation d/b/a National Grid.

Filed Date: 09/30/2009.

Accression Number: 20090930-5122.

Comment Date: 5 p.m. Eastern Time on Wednesday, October 21, 2009.

Docket Numbers: ER09-1607-001.

Applicants: Barton Windpower II LLC.

Description: Barton Windpower II, LLC submits Substitute Original Sheet 1 et al. to FERC Electric Tariff, First Revised Volume 1.

Filed Date: 09/23/2009.

Accression Number: 20090924-0038.

Comment Date: 5 p.m. Eastern Time on Wednesday, October 14, 2009.

Docket Numbers: ER09-1682-000.

Applicants: New York Independent System Operator, Inc.

Description: New York Independent System Operator, Inc.'s Corrected Pages for Confidential Attachment E.

Filed Date: 09/30/2009.

Accression Number: 20090930-5048.

Comment Date: 5 p.m. Eastern Time on Wednesday, October 21, 2009.

Docket Numbers: ER09-1710-001.

Applicants: KEB Trading LLC.

Description: KEB Trading, LLC submits proposed FERC Electric Tariff, with revised Attachment 1 Cover Page, Original Sheet 1 and 2 etc.

Filed Date: 09/30/2009.

Accression Number: 20090930-0098.

Comment Date: 5 p.m. Eastern Time on Wednesday, October 21, 2009.

Docket Numbers: ER09-1725-000.

Applicants: Cross Border Energy, LLC.

Description: Cross Border Energy, LLC submits Petition for Acceptance of Initial Tariff, Waivers and Blanket Authority.

Filed Date: 09/29/2009.

Accression Number: 20090929-0103.

Comment Date: 5 p.m. Eastern Time on Tuesday, October 20, 2009.

Docket Numbers: ER09-1747-000.

Applicants: Fox Islands Electric Cooperative Inc.

Description: Fox Islands Electric Cooperative, Inc. submits Petition for Order Accepting Market-Based Rate Tariff for Filing Granting Waivers and Blanket Approvals & Rate Schedule FERC 1.

Filed Date: 09/29/2009.

Accression Number: 20090929-0104.

Comment Date: 5 p.m. Eastern Time on Tuesday, October 20, 2009.

Docket Numbers: ER09-1749-000.

Applicants: PacifiCorp.

Description: PacifiCorp submits Large Generator Interconnection Agreement Facilities Maintenance Agreement.

Filed Date: 09/28/2009.

Accression Number: 20090928-0102.

Comment Date: 5 p.m. Eastern Time on Monday, October 19, 2009.

Docket Numbers: ER09-1762-000.

Applicants: Westar Energy, Inc.

Description: Westar Energy, Inc. submits its Full Requirements Electric Service Rate Schedule and Electric Service Agreement.

Filed Date: 09/28/2009.

Accression Number: 20090928-0104.

Comment Date: 5 p.m. Eastern Time on Monday, October 19, 2009.

Docket Numbers: ER09-1764-000.

Applicants: New England Power Company.

Description: New England Power Co et al. submits a First Amended and Restated Transmission Support Agreement with Seabrook Transmission Substation, namely Florida Power & Light Co. et al.

Filed Date: 09/29/2009.

Accression Number: 20090930-0088.

Comment Date: 5 p.m. Eastern Time on Tuesday, October 20, 2009.

Docket Numbers: ER09-1765-000.

Applicants: MidAmerican Energy Company.

Description: MidAmerican Energy Company et al. submits revisions to Attachment O of the Midwest ISO Tariff.

Filed Date: 09/29/2009.

Accression Number: 20090930-0087.

Comment Date: 5 p.m. Eastern Time on Tuesday, October 20, 2009.

Docket Numbers: ER09-1766-000.

Applicants: ISO New England Inc. & New England Power.

Description: ISO New England, Inc. et al. submits revisions to the Forward Reserve Market Rules relating to the implementation of the Forward Capacity Market.

Filed Date: 09/29/2009.

Accression Number: 20090930-0089.

Comment Date: 5 p.m. Eastern Time on Tuesday, October 20, 2009.

Docket Numbers: ER09-1767-000.

Applicants: PJM Interconnection, L.L.C.

Description: PJM Interconnection, LLC submits executed interconnection service agreement entered into among PJM, Meadow Lake Wind Farm, LLC and Indiana Michigan Power Company.

Filed Date: 09/30/2009.

Accression Number: 20090930-0090.

Comment Date: 5 p.m. Eastern Time on Wednesday, October 21, 2009.

Docket Numbers: ER09-1768-000.

Applicants: Central Hudson Gas & Electric Corp.

Description: Central Hudson Gas & Electric Corporation submits First Revised Sheet No 4 et al. to FERC Rate Schedule No 206.

Filed Date: 09/30/2009.

Accression Number: 20090930-0091.

Comment Date: 5 p.m. Eastern Time on Wednesday, October 21, 2009.

Docket Numbers: ER09-1769-000.

Applicants: Midwest Independent Transmission System Operator, Inc.

Description: Midwest Independent Transmission System Operator, Inc. submits notice of cancellation of the amended CRSG agreement.

Filed Date: 09/30/2009.

Accression Number: 20090930-0092.

Comment Date: 5 p.m. Eastern Time on Wednesday, October 21, 2009.

Docket Numbers: ER09-1770-000.

Applicants: New England Power Pool.

Description: New England Power Pool Participants Committee submits counterpart signature pages of the New England Power Agreement.

Filed Date: 09/30/2009.

Accression Number: 20090930-0093.

Comment Date: 5 p.m. Eastern Time on Wednesday, October 21, 2009.

Docket Numbers: ER09-1771-000.

Applicants: Westar Energy, Inc.

Description: Westar Energy, Inc. submits notice of cancellation of a supplemental generation between Westar and the City of Burlingame.

Filed Date: 09/30/2009.

Accression Number: 20090930-0094.

Comment Date: 5 p.m. Eastern Time on Wednesday, October 21, 2009.

Docket Numbers: ER09-1772-000.

Applicants: Westar Energy, Inc.

Description: Westar Energy, Inc. submits Notice of Cancellation of a Supplemental Generation Agreement with City of Herington, Kansas.

Filed Date: 09/30/2009.

Accression Number: 20090930-0095.

Comment Date: 5 p.m. Eastern Time on Wednesday, October 21, 2009.

Docket Numbers: ER09-1774-000.

Applicants: Westar Energy, Inc.

Description: Westar Energy, Inc. submits Notice of Cancellation of a Supplemental Generation Agreement with Osage City, Kansas.

Filed Date: 09/30/2009.

Accression Number: 20090930-0096.

Comment Date: 5 p.m. Eastern Time on Wednesday, October 21, 2009.

Docket Numbers: ER09-1775-000.

Applicants: PJM Interconnection, L.L.C.

Description: PJM Interconnection, LLC submits revised tariff sheets of the PJM Open Access Transmission Tariff etc.

Filed Date: 09/30/2009.

Accression Number: 20090930-0099.

Comment Date: 5 p.m. Eastern Time on Wednesday, October 21, 2009.

Docket Numbers: ER09-1776-000.

Applicants: Allegheny Power.

Description: Allegheny Power submits First Revised Sheet 313A to the Open Access Transmission Tariff of PJM Interconnection, LLC, FERC Electric Tariff, Sixth revised Volume 1.

Filed Date: 09/30/2009.

Accression Number: 20090930-0100.

Comment Date: 5 p.m. Eastern Time on Wednesday, October 21, 2009.

Docket Numbers: ER09-1777-000.

Applicants: Delmarva Power & Light Company.

Description: Delmarva Power & Light Co. submits an executed Interconnection and Mutual Operating Agreement with City of Seaford, Delaware.

Filed Date: 09/30/2009.

Accression Number: 20090930-0101.

Comment Date: 5 p.m. Eastern Time on Wednesday, October 21, 2009.

Take notice that the Commission received the following electric securities filings:

Docket Numbers: ES09-58-000.

Applicants: Northeast Utilities Service Co.

Description: Application to Issue Short-Term Debt of Northeast Utilities Service Co. on Behalf of CL&P and WMECO.

Filed Date: 09/30/2009.

Accression Number: 20090930-5043.

Comment Date: 5 p.m. Eastern Time on Wednesday, October 21, 2009.

Docket Numbers: ES09-59-000.

Applicants: National Grid USA.

Description: Application under Federal Power Act Section 204 of National Grid USA.

Filed Date: 09/30/2009.

Accression Number: 20090930-5128.

Comment Date: 5 p.m. Eastern Time on Wednesday, October 21, 2009.

Docket Numbers: ES09-60-000.

Applicants: PPL Electric Utilities Corporation.

Description: PPL Electric Utilities Corporation submits an application for approval to issue promissory notes and other evidences of secured and unsecured short-term indebtedness through 12/31/11 etc.

Filed Date: 09/29/2009.

Accression Number: 20091001-0053.

Comment Date: 5 p.m. Eastern Time on Tuesday, October 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-24270 Filed 10-7-09; 8:45 am]

BILLING CODE 6717-01-P